PENSION BENEFIT GUARANTY CORPORATION

29 CFR Part 4044

Allocation of Assets in Single-Employer Plans; Benefits Payable in Terminated Single-Employer Plans; Interest Assumptions for Valuing and Paying Benefits

AGENCY: Pension Benefit Guaranty Corporation.

ACTION: Correcting amendments.

SUMMARY: The Pension Benefit Guaranty Corporation published a final rule document in the Federal Register on June 15, 2011 (at 76 FR 34847), amending its regulations on Benefits Payable in Terminated Single-Employer Plans and Allocation of Assets in Single-Employer Plans to prescribe interest assumptions under those regulations. This document corrects an inadvertent error in that final rule relating to the prescribed interest assumption under the allocation regulation, applicable to plans with valuation dates during the third quarter of 2011.

DATES: Effective March 9, 2012.

FOR FURTHER INFORMATION CONTACT: Catherine B. Klion (Klion.Catherine@PBGC.gov), Manager, Regulatory and Policy Division, Legislative and Regulatory Department, Pension Benefit Guaranty Corporation, 1200 K Street NW., Washington, DC 20005, 202-326-4024. (TTY/TDD users may call the Federal relay service toll free at 1-800-877-8339 and ask to be connected to 202-326-4024.)

SUPPLEMENTARY INFORMATION: The Pension Benefit Guaranty Corporation published a final rule document in the Federal Register of June 15, 2011 (at 76 FR 34847), amending its regulations on Benefits Payable in Terminated Single-Employer Plans and Allocation of Assets in Single-Employer Plans to prescribe interest assumptions under those regulations. The rule inadvertently misstated the prescribed interest assumptions under the allocation regulation, applicable to plans with valuation dates during the third quarter of 2011. The errors appeared both in the preamble and in the amendatory instructions.

In the preamble, the third full paragraph in the second column on p. 34847 should have read as follows:

The third quarter 2011 interest assumptions under the allocation regulation will be 4.22 percent for the first 20 years following the valuation date and 4.34 percent thereafter. In comparison with the interest assumptions in effect for the second quarter of 2011, these interest assumptions represent no change in the select period (the period during which the select rate (the initial rate) applies), an increase of 0.26 percent in the select rate, and an increase of 0.02 percent in the ultimate rate (the final rate).

List of Subjects in 29 CFR Part 4044

Employee benefit plans, Pension insurance, Pensions.

In consideration of the foregoing, 29 CFR part 4044 is corrected by making the following correcting amendment:

PART 4044—ALLOCATION OF ASSETS IN SINGLE-EMPLOYER PLANS

1. The authority citation for part 4044 continues to read as follows:

Authority: 29 U.S.C. 1301(a), 1302(b)(3), 1341, 1344, 1362.

2. In appendix B to part 4044, the entry for July-September 2011 is corrected to read as follows:

Appendix B to Part 4044—Interest Rates Used To Value Benefits

* * * * *

For valuation dates occurring in the months— | The values of it are:: it | The values of it are:: for t = | The values of it are:: it | The values of it are:: for t = | The values of it are:: it | The values of it are:: for t =
* * * * * * *
July-September 2011 | 0.0422 | 1-20 | 0.0434 | >20 | N/A | N/A
* * * * * * *

Issued in Washington, DC, on this 6th day of March 2012.
Laricke Blanchard,
Deputy Director for Policy, Pension Benefit Guaranty Corporation.

[FR Doc. 2012-5788 Filed 3-8-12; 8:45 am]

BILLING CODE 7709-01-P